FEDERAL DEPOSIT INSURANCE CORPORATION

No FEAR Act Notice

AGENCY: Federal Deposit Insurance Corporation (FDIC).

ACTION: Notice.

SUMMARY: FDIC is publishing notice to inform its employees, former employees, and applicants for employment about their rights and remedies under the Antidiscrimination Laws and Whistleblower Protection Laws applicable to them. Pursuant to Title II of the Notification and Federal Employee Antidiscrimination and Retaliation Act, the Office of Personnel Management promulgated a final rule in 5 CFR part 724 (71 FR 41095 (July 20, 2006)), requiring Federal agencies to provide such notice.

DATES: Effective immediately.

FOR FURTHER INFORMATION CONTACT: Vincent L. Johnson, Deputy Director, Office of Diversity and Economic Opportunity, Federal Deposit Insurance Corporation, (703) 562-6092.

I. Background

On May 15, 2002, Congress enacted the “Notification and Federal Employee Antidiscrimination and Retaliation Act of 2002,” which is now known as the No FEAR Act. One purpose of the Act is to “require that Federal agencies be accountable for violations of antidiscrimination and whistleblower protection laws” (Pub. L. 107-174, Summary). In support of this purpose, Congress found that “agencies cannot be run effectively if those agencies practice or tolerate discrimination” (Pub. L. 107-174, Title I, General Provisions, section 101(1)).

The Act also requires this agency to provide this notice to Federal employees, former Federal employees and applicants for Federal employment to inform you of the rights and protections available to you under Federal antidiscrimination and whistleblower protection laws.

II. Antidiscrimination Laws

A Federal agency, including the FDIC, cannot discriminate against an employee or an applicant for employment with respect to the terms, conditions, or privileges of employment on the basis of race, color, religion, sex, national origin, age, disability, marital status or political affiliation. Discrimination on these bases is prohibited by one or more of the following statutes: 5 U.S.C. 2302(b)(1), 29 U.S.C. 206(d), 29 U.S.C. 631, 29 U.S.C. 633a, 29 U.S.C. 791, and 42 U.S.C. 2000e-16.

If you believe you have been the victim of unlawful discrimination on the basis of race, color, religion, sex, national origin or disability, you must contact an Equal Employment Opportunity (EEO) counselor in the FDIC's Office of Diversity and Economic Opportunity within 45 calendar days of the alleged discriminatory action, or, in the case of a personnel action, within 45 calendar days of the effective date of the action, before you can file a formal complaint of discrimination with the FDIC. See, e.g., 29 CFR part 1614. If you believe that you have been the victim of unlawful discrimination based on age (age 40 and over), you must either contact an EEO counselor as noted above or give notice of intent to sue to the U.S. Equal Employment Opportunity Commission (EEOC) within 180 calendar days of the alleged discriminatory action. If you are alleging discrimination based on marital status or political affiliation, you may file a written complaint with the U.S. Office of Special Counsel (OSC) (see contact information below). In the alternative, a bargaining unit employee may pursue a discrimination complaint by filing a grievance under the FDIC-NTEU collective bargaining agreement.

III. Whistleblower Protection Laws

A Federal employee, including an FDIC employee, with authority to take, direct others to take, recommend or approve any personnel action must not use that authority to take or fail to take, or threaten to take or fail to take, a personnel action against an employee or applicant because of disclosure of information by that individual that is reasonably believed to evidence violation of law, rule or regulation; gross mismanagement; gross waste of funds; an abuse of authority; or a substantial and specific danger to public health or safety, unless disclosure of such information is specifically prohibited by law and such information is specifically required by Executive Order to be kept secret in the interest of national defense or the conduct of foreign affairs.

Retaliation against an employee, former employee, or an applicant for employment for making a protected disclosure is prohibited by 5 U.S.C. 2302(b)(8). Additionally, FDIC employees are protected from reprisal for whistleblowing activities under 12 U.S.C. 1831j. The Inspector General Act (5 U.S.C. Appendix 3, section 7) prohibits reprisal against any employee for making a complaint or disclosing information to an Inspector General. If you believe that you have been a victim of whistleblower retaliation, you may file a written complaint (Form OSC-11) with the U.S. Office of Special Counsel (OCS) at 1730 M Street NW, Suite 218, Washington, DC 20036-4505 or online through the OSC Web site— http://www.osc.gov.

IV. Retaliation for Engaging in Protected Activity

A Federal agency, including the FDIC, cannot retaliate against an employee, former employee, or an applicant for employment because that individual exercises his or her rights under any of the Federal antidiscrimination or whistleblower protection laws listed above. If you believe that you are the victim of retaliation for engaging in protected activity, you must follow, as appropriate, the procedures described in the Antidiscrimination Laws and Whistleblower Protection Laws sections or, if applicable, the FDIC's administrative or negotiated grievance procedures in order to pursue any legal remedy.

V. Disciplinary Actions

Under the existing laws, each agency, including the FDIC, retains the right, where appropriate, to discipline a Federal employee for conduct that is inconsistent with Federal Antidiscrimination and Whistleblower Protection Laws up to and including removal. If OSC has initiated an investigation under 5 U.S.C. 1214, however, according to 5 U.S.C. 1214 (f), agencies, including the FDIC, must seek approval from the Special Counsel to discipline employees for, among other activities, engaging in prohibited retaliation. Nothing in the No FEAR Act alters existing laws or permits an agency, including the FDIC, to take unfounded disciplinary action against a Federal employee or to violate the procedural rights of a Federal employee who has been accused of discrimination.

VI. Additional Information

For further information regarding the No FEAR Act regulations, refer to 5 CFR part 724, as well as the FDIC's Office of Diversity and Economic Opportunity, the Human Resources Branch in the Division of Administration, and the Legal Division. Additional information regarding Federal antidiscrimination, whistleblower protection and retaliation laws can be found at the EEOC Web site— http://www.eeoc.gov and the OSC Web site— http://www.osc.gov.

VII. Existing Rights Unchanged

Pursuant to section 205 of the No FEAR Act, neither the Act nor this notice creates, expands or reduces any rights otherwise available to any employee, former employee or applicant for employment under the laws of the United States, including the provisions of law specified in 5 U.S.C. 2302(d).

Dated at Washington, DC, this 13th day of October, 2006.
Federal Deposit Insurance Corporation.
Robert E. Feldman,
Executive Secretary.

[FR Doc. E6-17388 Filed 10-18-06; 8:45 am]

BILLING CODE 6714-01-P